DEPARTMENT OF THE INTERIOR

National Park Service

[N6646; NPS-WASO-NAGPRA-NPS0041380; PPWOCRADN0-PCU00RP14.R50000]

Notice of Inventory Completion: University of Alabama Museums, Tuscaloosa, AL

AGENCY: National Park Service, Interior.

ACTION: Notice.

SUMMARY: In accordance with the Native American Graves Protection and Repatriation Act (NAGPRA), the University of Alabama Museums has completed an inventory of human remains and associated funerary objects and has determined that there is a cultural affiliation between the human remains and associated funerary objects and Indian Tribes or Native Hawaiian organizations in this notice.

DATES: Repatriation of the human remains and associated funerary objects in this notice may occur on or after January 15, 2026.

ADDRESSES: Send written requests for repatriation of the human remains and associated funerary objects in this notice to Dr. William Bomar, Executive Director, University of Alabama Museums, Box 870340, Tuscaloosa, AL 35487, email bbomar@ua.edu.

SUPPLEMENTARY INFORMATION: This notice is published as part of the National Park Service's administrative responsibilities under NAGPRA. The determinations in this notice are the sole responsibility of the University of Alabama Museums, and additional information on the determinations in this notice, including the results of consultation, can be found in its inventory or related records. The National Park Service is not responsible for the determinations in this notice.

Abstract of Information Available

Human remains representing, at least, 11 individuals have been identified. The three lots of associated funerary objects are ceramic sherds, lithics, shell, shell beads, and faunal bone. Severe storms and flooding in Alabama resulted in a Presidentially declared major disaster on May 21, 2020, with an incident period from February 5, 2020, through March 6, 2020. Moundville Archaeological Park was affected by the storms and the University of Alabama requested funding from FEMA to repair slope damage to Mound U. The slope on Mound U, along the Black Warrior River, slid exposing human remains due to saturation of soil by heavy rain that occurred from February to March 2020. The exposed human remains were recovered from the surface on March 4, 2020, and August 5, 2020, and taken to the Erskine Ramsey Repository where they are currently housed.

Cultural Affiliation

Based on the information available and the results of consultation, cultural affiliation is reasonably identified by the geographical location or acquisition history of the human remains and associated funerary objects described in this notice.

Determinations

The University of Alabama Museums has determined that:

• The human remains described in this notice represent the physical remains of 11 individuals of Native American ancestry.

• The three lots of associated funerary objects described in this notice are reasonably believed to have been placed intentionally with or near individual human remains at the time of death or later as part of the death rite or ceremony.

• There is a connection between the human remains and associated funerary objects described in this notice and the Alabama-Quassarte Tribal Town; Coushatta Tribe of Louisiana; Mississippi Band of Choctaw Indians; Seminole Tribe of Florida; The Chickasaw Nation; The Choctaw Nation of Oklahoma; The Muscogee (Creek) Nation; and The Seminole Nation of Oklahoma with letters of support from the Alabama-Coushatta Tribe of Texas and the Jena Band of Choctaw Indians.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 15, 2026. If competing requests for repatriation are received, the University of Alabama Museums must determine the most appropriate requestor prior to repatriation. Requests for joint repatriation of the human remains and associated funerary objects are considered a single request and not competing requests. The University of Alabama Museums is responsible for sending a copy of this notice to the Indian Tribes and Native Hawaiian organizations identified in this notice.

Authority: Native American Graves Protection and Repatriation Act, 25 U.S.C. 3003, and the implementing regulations, 43 CFR 10.10.

Dated: November 20, 2025.
Melanie O'Brien,
Manager, National NAGPRA Program.

[FR Doc. 2025-22922 Filed 12-15-25; 8:45 am]

BILLING CODE 4312-52-P